OFFICE OF PERSONNEL MANAGEMENT

Submission for Review: Reinstatement of a Previously Approved Information Collection With Revision, U.S. Office of Personnel Management (OPM) Standard Form (SF) 15, Application for 10-Point Veteran Preference, OMB No. 3206-0001

AGENCY: U.S. Office of Personnel Management.

ACTION: 60-Day notice and request for comments.

SUMMARY: This notice announces the Office of Personnel Management's (OPM) plan to submit to the Office of Management and Budget (OMB) a request for reinstatement of a revised information collection for the Standard Form (SF) 15, Application for 10-Point Veteran Preference. The SF-15 is used by agencies, OPM examining offices, and agency appointing officials to adjudicate individuals' claims for veterans' preference in accordance with the Veterans' Preference Act of 1944. OPM's revisions are necessary to update language as a result of the enactment of the Gold Star Fathers Act of 2015, derived veterans' preference for parents, and to make additional corrections to the form.

DATES: Comments are encouraged and will be accepted until January 22, 2018.

ADDRESSES: You may send or deliver comments to Kimberly A. Holden, Deputy Associate Director for Talent Acquisition and Workforce Shaping, Employee Services, U.S. Office of Personnel Management, Room 6351D, 1900 E Street NW., Washington, DC 20415-9700; email at employ@opm.gov; or fax at (202) 606-2329; and to OMB Designee, OPM Desk Officer, Office of Management and Budget, Office of Information and Regulatory Affairs, New Executive Office Building NW., Room 10235, Washington, DC 20503.

FOR FURTHER INFORMATION CONTACT: Roseanna Ciarlante by telephone at (267) 932-8640; by fax at (202) 606-4430; by TTY at (202) 418-3134; or by email at Roseanna.Ciarlante@opm.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

The SF 15, Application for 10-Point Veteran Preference, is used by veterans as both a request for preference and a guide to determine the appropriate documentation to submit to support their claims of 10-point veterans' preference when applying for Federal employment. The SF 15, and the accompanying documentation, is used by agencies, OPM examining offices, and agency appointing officials to adjudicate individuals' claims for veterans' preference in accordance with the Veterans' Preference Act of 1944. The proposed revisions to the SF 15 are necessary to update language as a result of the enactment of the Gold Star Fathers Act of 2015 (Pub. L. 114-62), derived veterans' preference for parents, and to make additional corrections on the form, as follows:

• Page 1, Item 9 is revised to reflect derived veterans' preference for parents.

• Page 2, Item A, 4th bullet is corrected to read that certification is of an expected discharge or release from active duty service in the armed forces under honorable conditions not later than 120 days after the date the certification is submitted.

• Page 2, Items C and F are corrected to reflect derived veterans' preference for parents.

• Several punctuation errors are corrected.

The SF 15 will continue to be available as a PDF fillable form for applicant use. The only acceptable version of this form will be as stated above, but consistent with current practice, the form may be submitted electronically or in hard copy. The SF 15 will be obtainable on the OPM Web site at https://www.opm.gov/forms/standard-forms/.

Analysis

• Agency: Recruitment and Hiring, Employee Services, Office of Personnel Management.

• Title: Application for 10-Point Veteran Preference.

• OMB Number: 3260-0001.

• Frequency: Annually.

• Affected Public: Disabled Veterans.

• Number of Respondents: 18,418.

• Estimated Time per Respondent: 33.5 minutes.

• Total Burden Hours: 6,139 hours.

U.S. Office of Personnel Management.
Kathleen M. McGettigan,
Acting Director.

[FR Doc. 2017-25034 Filed 11-20-17; 8:45 am]

BILLING CODE 6325-39-P